DEPARTMENT OF ENERGY

Federal Energy Regulatory Commission

[Project No. 14861-001]

FFP Project 101, LLC; Notice of Intent To File License Application, Filing of Pre-Application Document, and Approving Use of the Traditional Licensing Process

a. Type of Filing: Notice of Intent to File License Application and Request to Use the Traditional Licensing Process.

b. Project No.: 14861-001.

c. Date Filed: January 28, 2019.

d. Submitted By: Rye Development on behalf of FFP Project 101, LLC.

e. Name of Project: Goldendale Pumped Storage Project.

f. Location: Off-stream (north side) of the Columbia River at River Mile 215.6 in Klickitat County, Washington and Sherman County, Oregon, approximately 8 miles southeast of the City of Goldendale. The project would occupy 16.1 acres of lands administered by the Bonneville Power Administration.

g. Filed Pursuant to: 18 CFR 5.3 of the Commission's regulations.

h. Potential Applicant Contact: Erik Steimle, Rye Development, 220 NW 8th Avenue, Portland, Oregon 97209; (503) 998-0230; email—erik@ryedevelopment.com.

i. FERC Contact: Michael Tust at (202) 502-6522; or email at michael.tust@ferc.gov.

j. FFP Project 101, LLC (FFP) filed its request to use the Traditional Licensing Process on January 28, 2019. FFP provided public notice of its request on January 30, 2019 and January 31, 2019. In a letter dated March 21, 2019, the Director of the Division of Hydropower Licensing approved FFP's request to use the Traditional Licensing Process.

k. With this notice, we are initiating informal consultation with the U.S. Fish and Wildlife Service and/or NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Washington State Historic Preservation Officer and the Oregon State Historic Preservation Officer, as required by section 106, National Historic Preservation Act, and the implementing regulations of the Advisory Council on Historic Preservation at 36 CFR 800.2.

l. With this notice, we are designating FFP as the Commission's non-federal representative for carrying out informal consultation pursuant to section 7 of the Endangered Species Act and section 305(b) of the Magnuson-Stevens Fishery Conservation and Management Act; and consultation pursuant to section 106 of the National Historic Preservation Act.

m. FFP filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: March 21, 2019.
Kimberly D. Bose,
Secretary.

[FR Doc. 2019-05903 Filed 3-27-19; 8:45 am]

BILLING CODE 6717-01-P